DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of June 20, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Shelby County, Indiana and Incorporated Areas
Docket No.: FEMA-B-1744, FEMA-B-2249
City of Shelbyville | Shelbyville Planning Commission, 44 West Washington Street, Shelbyville, IN 46176.
Town of Edinburgh | Town Hall, 107 South Holland Street, Edinburgh, IN 46124.
Unincorporated Areas of Shelby County | Shelby County Courthouse Annex, 25 West Polk Street, Shelbyville, IN 46176.
Cumberland County, Maine (All Jurisdictions)
Docket No.: FEMA-B-1830 and FEMA-B-2271
City of Portland | City Hall, 389 Congress Street, Portland, ME 04101.
City of South Portland | Planning and Development Department, 829 Sawyer Street, South Portland, ME 04106.
City of Westbrook | Code Enforcement Department, 2 York Street, Westbrook, ME 04092.
Town of Baldwin | Baldwin Town Hall, Code Enforcement Office, 534 Pequawket Trail, West Baldwin, ME 04091.
Town of Bridgton | Municipal Complex, 3 Chase Street, Suite 1, Bridgton, ME 04009.
Town of Brunswick | Town Hall, 85 Union Street, Brunswick, ME 04011.
Town of Cape Elizabeth | Town Hall, 320 Ocean House Road, Cape Elizabeth, ME 04107.
Town of Casco | Town Office, 635 Meadow Road, Casco, ME 04015.
Town of Chebeague Island | Town Office, 192 North Road, Chebeague Island, ME 04017.
Town of Cumberland | Town Hall, 290 Tuttle Road, Cumberland, ME 04021.
Town of Falmouth | Town Hall, 271 Falmouth Road, Falmouth, ME 04105.
Town of Freeport | Town Hall, 30 Main Street, Freeport, ME 04032.
Town of Frye Island | Town Hall, 10 Fairway Lane, Frye Island, ME 04071.
Town of Gorham | Municipal Center, 75 South Street, Gorham, ME 04038.
Town of Gray | Henry Pennell Municipal Complex, Community Development Department, 24 Main Street, Gray, ME 04039.
Town of Harpswell | Town Office, 263 Mountain Road, Harpswell, ME 04079.
Town of Harrison | Town Office, 20 Front Street, Harrison, ME 04040.
Town of Long Island | Town Hall, 105 Wharf Street, Long Island, ME 04050.
Town of Naples | Town Hall, 15 Village Green Lane, Naples, ME 04055.
Town of New Gloucester | Town Hall, 385 Intervale Road, New Gloucester, ME 04260.
Town of North Yarmouth | Town Hall, 10 Village Square Road, North Yarmouth, ME 04097.
Town of Pownal | Town Hall, 429 Hallowell Road, Pownal, ME 04069.
Town of Raymond | Town Hall, 401 Webbs Mills Road, Raymond, ME 04071.
Town of Scarborough | Municipal Building, Planning and Code Enforcement Office, 259 US Route 1, Scarborough, ME 04074.
Town of Sebago | Town Office, Code Enforcement, 406 Bridgton Road, Sebago, ME 04029.
Town of Standish | Town Hall, 175 Northeast Road, Standish, ME 04084.
Town of Windham | Town Hall, Code Enforcement Department, 8 School Road, Windham, ME 04062.
Town of Yarmouth | Town Hall, 200 Main Street, Yarmouth, ME 04096.
Wilkin County, Minnesota and Incorporated Areas
Docket No.: FEMA-B-1925
City of Breckenridge | City Hall, 420 Nebraska Avenue, Breckenridge, MN 56520.
Unincorporated Areas of Wilkin County | Wilkin County Recycling Center, 505 South 8th Street, Breckenridge, MN 56520.
Wright County, Minnesota and Incorporated Areas
Docket Nos.: FEMA-B-1627 and FEMA-B-2315
City of Buffalo | City Center, 212 Central Avenue, Buffalo, MN 55313.
City of Clearwater | City Hall, 605 County Road 75, Clearwater, MN 55320.
City of Cokato | City Hall, 255 Broadway Avenue South, Cokato, MN 55321.
City of Delano | City Hall, 234 2nd Street North, Delano, MN 55328.
City of Maple Lake | City Hall, 10 Maple Avenue South, Maple Lake, MN 55358.
City of Monticello | City Hall, 505 Walnut Street, Monticello, MN 55362.
City of Montrose | City Hall, 311 Buffalo Avenue South, Montrose, MN 55363.
City of Ostego | City Hall, 13400 90th Street NE, Otsego, MN 55330.
City of St. Michael | City Hall, 11800 Town Center Drive NE, St. Michael, MN 55376.
City of Waverly | City Hall, 502 Atlantic Avenue, Waverly, MN 55390.
Township of Corinna | Corinna Township Hall, 9801 Ireland Avenue NW, Annandale, MN 55302.
Unincorporated Areas of Wright County | Wright County Government Center, 3650 Braddock Avenue NE, Buffalo, MN 55313.
Roosevelt County, New Mexico and Incorporated Areas
Docket No.: FEMA-B-2150 and FEMA-B-2303
City of Portales | Memorial Building, 200 East 7th Street, Portales, NM 88130.
Town of Elida | Town Hall, 704 Clark Street, Elida, NM 88116.
Village of Causey | Roosevelt County, Bonem House, 1111 West Fir Street, Portales, NM 88130.
Village of Dora | Roosevelt County, Bonem House, 1111 West Fir Street, Portales, NM 88130.
Village of Floyd | Roosevelt County, Bonem House, 1111 West Fir Street, Portales, NM 88130.
Unincorporated Areas of Roosevelt County | Roosevelt County, Bonem House, 1111 West Fir Street, Portales, NM 88130.
Allen County, Ohio and Incorporated Areas
Docket No.: FEMA-B-2145 and FEMA-B-2315
City of Delphos | Municipal Building, 608 North Canal Street, Delphos, OH 45833.
City of Lima | Municipal Center, 50 Town Square, Lima, OH 45801.
Unincorporated Areas of Allen County | Allen County Board of Elections, 204 North Main Street, Suite 301, Lima, OH 45801.
Village of Elida | Town Hall, 406 East Main Street, Elida, OH 45807.
Village of Lafayette | Community Building, 225 East Sugar Street, Lafayette, OH 45854.
Luzerne County, Pennsylvania (All Jurisdictions)
Docket No.: FEMA-B-2124 and FEMA-B-2315
Borough of Duryea | Borough Building, 315 Main Street, Duryea, PA 18642.
Borough of Edwardsville | Borough Building, 470 Main Street, Edwardsville, PA 18704.
Borough of Exeter | Municipal Building, 1101 Wyoming Avenue, Exeter, PA 18643.
Borough of Forty Fort | Borough Building, 1271 Wyoming Avenue, Forty Fort, PA, 18704.
Borough of Kingston | Municipal Building, 500 Wyoming Avenue, Kingston, PA 18704.
Borough of Larksville | Municipal Building, 211 East State Street, Larksville, PA 18704.
Borough of Luzerne | Municipal Building, 144 Academy Street, Luzerne, PA 18709.
Borough of Nescopeck | Municipal Building, 501 Raber Avenue, Nescopeck, PA 18635.
Borough of Plymouth | Administrative Offices, 162 West Shawnee Avenue, Plymouth, PA 18651.
Borough of Shickshinny | Borough Office, 35 West Union Street, Shickshinny, PA 18655.
Borough of Swoyersville | Borough Building, 675 Main Street, Swoyersville, PA 18704.
Borough of West Pittston | Borough Building, 555 Exeter Avenue, West Pittston, PA 18643.
Borough of West Wyoming | Borough Building, 464 West 8th Street, West Wyoming, PA 18644.
Borough of Wyoming | Borough Building, 277 Wyoming Avenue, Wyoming, PA 18644.
City of Nanticoke | City Hall, 15 East Ridge Street, Nanticoke, PA 18634.
City of Pittston | City Hall, 35 Broad Street, Pittston, PA 18640.
City of Wilkes-Barre | City Hall, 40 East Market Street, Wilkes-Barre, PA 18711.
Township of Conyngham | Township of Conyngham Municipal Building, 10 Pond Hill Road, Mocanaqua, PA 18655.
Township of Exeter | Township of Exeter Municipal Building, 2305 State Route 92, Harding, PA 18643.
Township of Hanover | Municipal Building, 1267 Sans Souci Parkway, Hanover Township, PA 18706.
Township of Hollenback | Township of Hollenback Municipal Building, 660 East County Road, Wapwallopen, PA 18660.
Township of Hunlock | Township of Hunlock Township Office, 33 Village Drive, Hunlock Creek, PA 18621.
Township of Jackson | Municipal Building, 1275 Huntsville Road, Jackson Township, PA 18708.
Township of Jenkins | Township of Jenkins Municipal Building, 461/2 Main Street, Inkerman, PA 18640.
Township of Nescopeck | Township Building, 429 Berwick-Hazelton Highway, Nescopeck, PA 18635.
Township of Newport | Township of Newport Municipal Building, 351 West Kirmar Avenue, Nanticoke, PA 18634.
Township of Plains | Municipal Building, 126 North Main Street, Plains, PA 18705.
Township of Plymouth | Municipal Building, 925 West Main Street, Plymouth, PA 18651.
Township of Salem | Township of Salem Township Office, 38 Bomboy Lane, Berwick, PA 18603.
Township of Union | Township of Union Municipal Building, 21 Municipal Road, Shickshinny, PA 18655.
Metropolitan Government of Nashville and Davidson County, Tennessee and Incorporated Areas
Docket No.: FEMA-B-2294
City of Berry Hill | Berry Hill City Hall, 698 Thompson Lane, Nashville, TN 37204.
Metro Government of Nashville-Davidson County | Nashville-Davidson County Metro Water and Sewage Service, 1600 2nd Avenue North, Nashville, TN 37208.
Hanover County, Virginia and Incorporated Areas
Docket No.: FEMA-B-2300
Town of Ashland | Planning and Community Development, Town Hall, 121 Thompson Street, Ashland, VA 23005.
Unincorporated Areas of Hanover County | Hanover County Public Works Department, 7516 County Complex Road, Hanover, VA 23069.

[FR Doc. 2024-05671 Filed 3-15-24; 8:45 am]

BILLING CODE 9110-12-P